ENVIRONMENTAL PROTECTION AGENCY

[EPA-HQ-OAR-2007-0265; FRL-9261-2]

Agency Information Collection Activities: Proposed Collection; Comment Request

AGENCY: Environmental Protection Agency (EPA).

ACTION: Notice.

SUMMARY: In compliance with the Paperwork Reduction Act (PRA) (44 U.S.C. 3501 et seq.), this document announces that EPA is planning to submit to the Office of Management and Budget (OMB) a request to renew an existing approved Information Collection Request (ICR) 2258.02—Implementation of the 1997 and the 2006 fine particle (PM2.5) national ambient air quality standards (NAAQS). This ICR is scheduled to expire on May 31, 2011. Before submitting the ICR to OMB for review and approval, EPA is soliciting comments on specific aspects of the proposed information collection as described below.

DATES: Comments must be submitted on or before April 4, 2011.

ADDRESSES: Submit your comments, identified by Docket ID No. EPA-HQ-OAR-2007-0265, by one of the following methods:

• http://www.regulations.gov: Follow the on-line instructions for submitting comments.

• E-mail: a-and-r-docket@epamail.epa.gov.

• Fax: 202-566-1741

• Mail: Attention Docket ID No. EPA-HQ-OAR-2007-0265, U.S. Environmental Protection Agency, EPA West (Air Docket), 1200 Pennsylvania Avenue, Northwest, Mailcode: 6102T, Washington, DC 20460.

• Hand Delivery: U.S. Environmental Protection Agency, EPA West (Air Docket), 1301 Constitution Avenue, Northwest, Room 3334, Washington, DC 20004, Attention Docket ID No. EPA-HQ-OAR-2007-0265. Such deliveries are only accepted during the Docket's normal hours of operation, and special arrangements should be made for deliveries of boxed information.

Instructions: Direct your comments to Docket ID No. EPA-HQ-OAR-2007-0265. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit, the EPA Docket Center homepage at http://www.epa.gov/epahome/dockets.htm.

FOR FURTHER INFORMATION CONTACT: Butch Stackhouse, Air Quality Policy Division, Office of Air Quality Planning and Standards, Mail Code C539-01, Research Triangle Park, North Carolina 27711, telephone number (919) 541-5208, facsimile number (919) 541-0824, electronic mail e-mail address: stackhouse.butch@epa.gov; Karl Pepple, Air Quality Policy Division, Office of Air Quality Planning and Standards, Mail Code C539-01, Research Triangle Park, North Carolina 27711, telephone number (919) 541-2683, facsimile number (919) 541-0824, electronic mail e-mail address: pepple.karl@epa.gov.

SUPPLEMENTARY INFORMATION:

How can I access the docket and/or submit comments?

The EPA has established a public docket for this ICR under Docket ID No. EPA-HQ-OAR-2007-0265, which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected entities: Entities potentially affected by this action are states and Regional Offices. There are other entities that may be indirectly affected, as they may comment on the draft submissions before they are forwarded to EPA's Regional Offices. These include potentially regulated entities, representatives of special interest groups, and individuals.

Title: PM2.5 National Ambient Air Quality Standard Implementation Rule.

ICR number: EPA ICR No. 2258.02, OMB Control No. 2060-0611.

ICR status: This ICR is currently scheduled to expire on May 31, 2011. An Agency may not conduct or sponsor, and a person is not required to respond to, a collection of information, unless it displays a currently valid OMB control number. The OMB control numbers for EPA's regulations in title 40 of the Code of Federal Register (CFR), after appearing in the Federal Register when approved, are listed in 40 CFR part 9, are displayed either by publication in the Federal Register or by other appropriate means, such as on the related collection instrument or form, if applicable. The display of OMB control numbers in certain EPA regulations is consolidated in 40 CFR part 9.

Abstract: The Paperwork Reduction Act requires the information found in this ICR number 2258.02 to assess the burden (in hours and dollars) of the 1997 and 2006 PM2.5 NAAQS Implementation Rule as well as the periodic reporting and recordkeeping necessary to maintain the rule. The rule was proposed November 1, 2005 (70 FR 65983) and promulgated April 25, 2007 (71 FR 61145). The preamble to the proposed and final regulation addressed the administrative burden in general terms. The preamble to the final rule stated that an ICR would be prepared. The rule includes requirements that involve collecting information from states with areas that have been designated nonattainment for the PM2.5 NAAQS.

The time period covered in this ICR is a 3 year period from June 1, 2011 through May 31, 2014. The milestones for the State or local air agency respondents will include the required State Implementation Plan (SIP) elements prescribed in the Clean Air Act (CAA) sections 110 and part D, subpart 1 of title I for implementation plans and the requirements in the PM2.5 NAAQS Implementation Rule (40 CFR 51.1000-51.1012). The PM2.5 SIP will contain rules and other requirements designed to achieve the NAAQS by the deadlines established under the CAA, and it also contains a demonstration that the state's requirements will in fact result in attainment. The SIP must meet the requirements in subpart 1 to adopt Reasonable Available Control Measures, Reasonable Available Control Technology, and provide for Reasonable Further Progress toward attainment for the period prior to the area's attainment date. However, not all of the milestones and associated burden and administrative cost estimates apply to every designated PM2.5 nonattainment area. Areas with cleaner air quality have fewer requirements.

Burden Statement: The annual public reporting and recordkeeping burden for this collection of information is estimated to average 317 hours per response for states with nonattainment areas for the 1997 PM2.5 standard, and 4,243 hours per response for states with nonattainment areas for the 2006 PM2.5 standard. Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 1997 PM2.5

Standard: 21; 2006 PM2.5 Standard: 18.

Frequency of response: Annual.

Estimated total average number of responses for each respondent: 1997 PM2.5 Standard: 2.7; 2006 PM2.5 Standard: 2.

Estimated total annual burden hours: 1997 PM2.5 Standard: 18,400; 2006 PM2.5 Standard: 157,000 hours.

Estimated total average annual costs per respondent: 1997 PM2.5 standard: $52,600; 2006 PM2.5 Standard: $523,700. This includes an estimated burden cost of $0 for capital investment or maintenance and operational costs.

There is a decrease of 34,600 hours to 175,400 hours (from a sum of 210,000 hours in the 2007 ICR) in the total estimated respondent burden compared with that identified in the ICR currently approved by OMB. This decrease reflects EPA's information that the number of non-attainment areas for the 1997 PM2.5 standard has decreased as areas have come into compliance with the standards and that the burden associated with the remaining non-attainment areas is less because of the work they have done previously to comply with the standards. At the same time, promulgation of the 2006 PM2.5 standard led to designations of new areas as non-attainment, leading to an increased burden on those respondents.

Additional Background on Burden Estimation Method

The methodology and draft estimates of incremental administrative burden for this ICR are documented in a separate supporting statement in the docket. The methodology and draft estimates in the PM2.5 Implementation Rule ICR are based on the ICR developed for the 8-hour ozone Implementation Rule ICR (EPA ICR No. 2236.02, OMB Control No. 2060-0594). The 8-hour ozone Implementation Rule ICR methodology and draft estimates were submitted to EPA's Ozone NAAQS Implementation Workgroup for their review and comment. This workgroup is comprised of representatives from EPA Regional Offices I through IX, as well as EPA's Offices of General Counsel, Office of Policy, and Air and Radiation (including the Offices of Transportation and Air Quality, Air Quality Planning and Standards, and Policy Analysis and Review).

The workgroup provided constructive criticism on earlier drafts which resulted in clarifications to the methodology section, revisions to the categorization of non-attainment areas by Regional Office, and changes to the temporal allocation of Regional Office administrative burden. The workgroup reviewed the June 2006 ICR supporting statement which was forwarded to OMB's Office of Information and Regulatory Affairs. The workgroup believed there would be differences between the realized incremental administrative burden of the states and Regional Offices versus what was in the supporting statement. However, the estimates in the ICR supporting statement were judged to be appropriate.

What is the next step in the process for this ICR?

The EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: January 28, 2011.
Mary E. Henigin,
Acting Director, Office of Air Quality Planning and Standards, Office of Air and Radiation.

[FR Doc. 2011-2271 Filed 2-1-11; 8:45 am]

BILLING CODE 6560-50-P